FEDERAL MARITIME COMMISSION

Sunshine Act Meeting

TIME AND DATE: December 7, 2018; 10:00 a.m. (Open) & 1:00 p.m. (Closed)

PLACE: 800 N. Capitol Street NW, First Floor Hearing Room, Washington, DC.

STATUS: Parts of this meeting will be open to the public and streamed live at https://www.youtube.com/channel/UCwKTAlGGHIA0xcN3bDt_Uqg. The rest of the meeting will be closed to the public.

MATTERS TO BE CONSIDERED:

Portions Open to the Public

1. Fact Finding No. 28—Final Report—Briefing by Commissioner Rebecca F. Dye

2. Licensing, Financial Responsibility Requirements, and General Duties for Ocean Transportation Intermediaries

Portions Closed to the Public

1. Staff Briefing on Alliance Agreements

2. West Coast Marine Terminal Operator Agreement Monitoring Requirements

CONTACT PERSON FOR MORE INFORMATION: Rachel Dickon, Secretary, (202) 523-5725.

Rachel Dickon,
Secretary.

[FR Doc. 2018-26314 Filed 11-29-18; 4:15 pm]

BILLING CODE 6731-AA-P